ENVIRONMENTAL PROTECTION AGENCY

[ER-FRL-8987-7]

Environmental Impacts Statements; Notice of Availability

Responsible Agency: Office of Federal Activities, General Information (202) 564-1399 or http://www.epa.gov/compliance/nepa/.

Weekly Receipt of Environmental Impact Statements Filed 01/18/2010 Through 01/22/2010 Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the website satisfies the Section 309(a) requirement to make EPA's comments on EISs available to the public. Accordingly, after March 31, 2010, EPA will discontinue the publication of this notice of availability of EPA comments in the Federal Register.

EIS No. 20100017, Draft EIS, NOAA, 00, Amendment 21 to the Pacific Coast Groundfish Fishery Management Plan, (FMP), Allocation of Harvest Opportunity between Sectors, Implementation, WA, OR and CA, Comment Period Ends: 03/15/2010, Contact: Barry A. Thom 206-516-6150.

EIS No. 20100018, Draft EIS, NPS, WV, New River Gorge National River Project, General Management Plan, Implementation, Fayette, Raleigh and Summers Counties, WV, Comment Period Ends: 03/29/2010, Contact: Deborah Darden 304-465-6509.

EIS No. 20100019, Final EIS, DOE, NY, West Valley Demonstration Project and Western New York Nuclear Service Center Decommissioning and/or Long-Term Stewardship, (DOE/EIS-0226-D Revised) City of Buffalo, Eric and Cattaraugus Counties, NY, Wait Period Ends: 03/01/2010, Contact: Catherine Bohan 716-942-4159.

EIS No. 20100020, Final EIS, FTA, TX, University Corridor Fixed Guideway Project, To Implement Transit Improvements from Hillcroft Transit Center to the Vicinity of the University of Houston (UH)—Central Campus or the Eastwood Transit Center, City of Houston, Harris County, TX, Wait Period Ends: 03/01/2010, Contact: Laura Wallace 817-978-0561.

EIS No. 20100021, Final EIS, BR, CA, Folsom Lake State Recreation Area & Folsom Powerhouse State Historic Park, General Plan/Resource Management Plan, Implementation, Placer County, CA, Wait Period Ends: 03/01/2010, Contact: Walter Clevenger 916-989-7173.

EIS No. 20100022, Draft EIS, DOE, 00, Long-Term Management and Storage of Elemental Mercury Storage Project, Designate a Facility or Facilities for Mercy Storage, Seven Alternative Sites, CO, ID, MO, NV, SC and WA, Comment Period Ends: 03/29/2010, Contact: David Levenstein 301-903-6500.

EIS No. 20100023, Final EIS, USFS, 00, Klamath National Forest Motorized Route Designation, Motorized Travel Management, (Formerly Motorized Route Designation), Implementation, Siskiyou County, CA and Jackson County, OR, Wait Period Ends: 03/01/2010, Contact: Jan Ford 530-841-4483.

Dated: January 26, 2010.
Ken Mittelholtz,
Deputy Director, NEPA Compliance Division, Office of Federal Activities.

[FR Doc. 2010-1859 Filed 1-28-10; 8:45 am]

BILLING CODE 6560-50-P